FEDERAL RESERVE SYSTEM

Agency Information Collection Activities: Announcement of Board Approval under Delegated Authority and Submission to OMB

AGENCY: Board of Governors of the Federal Reserve System.

SUMMARY: The Board of Governors of the Federal Reserve System (Board) is adopting a proposal to extend for three years, without revision, the Disclosure Requirements of Subpart H of Regulation H (Consumer Protections in Sales of Insurance) (Reg H-7; OMB No. 7100-0298).

FOR FURTHER INFORMATION CONTACT: Federal Reserve Board Clearance Officer—Nuha Elmaghrabi—Office of the Chief Data Officer, Board of Governors of the Federal Reserve System, Washington, DC 20551 (202) 452-3829. Telecommunications Device for the Deaf (TDD) users may contact (202) 263-4869, Board of Governors of the Federal Reserve System, Washington, DC 20551.

OMB Desk Officer—Shagufta Ahmed—Office of Information and Regulatory Affairs, Office of Management and Budget, New Executive Office Building, Room 10235, 725 17th Street NW, Washington, DC 20503 or by fax to (202) 395-6974.

SUPPLEMENTARY INFORMATION: On June 15, 1984, the Office of Management and Budget (OMB) delegated to the Board authority under the Paperwork Reduction Act (PRA) to approve and assign OMB control numbers to collection of information requests and requirements conducted or sponsored by the Board. Board-approved collections of information are incorporated into the official OMB inventory of currently approved collections of information. Copies of the Paperwork Reduction Act Submission, supporting statements and approved collection of information instrument(s) are placed into OMB's public docket files. The Board may not conduct or sponsor, and the respondent is not required to respond to, an information collection that has been extended, revised, or implemented on or after October 1, 1995, unless it displays a currently valid OMB control number.

Final Approval Under OMB Delegated Authority of the Extension for Three Years, Without Revision, of the Following Information Collection

Report title: Disclosure Requirements of Subpart H of Regulation H (Consumer Protections in Sales of Insurance).

Agency form number: Reg H-7.

OMB control number: 7100-0298.

Frequency: On occasion.

Respondents: State member banks and other persons.

Estimated number of respondents: 822.

Estimated time per response: 1.5 minutes.

Estimated annual burden hours: 12,947.

General description of report: Subpart H of Regulation H was adopted by the Board in 2003 pursuant to section 305 of the Gramm-Leach-Bliley Act of 1999 (GLBA), which required the federal banking agencies to issue joint regulations governing retail sales practices, solicitations, advertising, and offers of insurance by, on behalf of, or at the offices of insured depository institutions. The insurance consumer protection rules in Regulation H, which apply to the sale of insurance by a state member bank or by any other person at an office of the bank or on behalf of the bank (collectively, “Covered Persons”), require Covered Persons to prepare and provide certain disclosures to consumers. Covered persons are required to make certain written and oral disclosures before the completion of the initial sale of an insurance product or annuity to a consumer and at the time a consumer applies for an extension of credit in connection with which an insurance product or annuity is solicited, offered, or sold (see 12 CFR 208.84(a)-(d)).

Legal authorization and confidentiality: Section 305 of the GLBA requires that the Board issue regulations, including disclosure requirements, applicable to retail sales practices, solicitations, advertising, or offers of insurance by depository institutions (12 U.S.C. 1831x). The disclosure requirements described above are contained in Subpart H of the Board's Regulation H. 12 CFR part 208, subpart H. The disclosures required under Subpart H are mandatory. Because Regulation H-7 disclosures are provided by Covered Persons to customers, confidentiality issues should generally not arise. However, if the Board obtains any institution-specific information during an examination of a state member bank, such information may be protected under exemption (b)(8) of the Freedom of Information Act, which exempts from disclosure materials related to the examination of financial institutions (5 U.S.C. 552(b)(8)).

Current actions: On October 17, 2018, the Board published an initial notice in the Federal Register (83 FR 52452) requesting public comment for 60 days on the extension, without revision, of the Disclosure Requirements of Subpart H of Regulation H (Consumer Protections in Sales of Insurance). The comment period for this notice expired on December 17, 2018. The Board did not receive any comments.

Board of Governors of the Federal Reserve System, January 30, 2019.
Michele Taylor Fennell,
Assistant Secretary of the Board.

[FR Doc. 2019-00998 Filed 2-4-19; 8:45 am]

BILLING CODE 6210-01-P